FEDERAL COMMUNICATIONS COMMISSION

[OMB 3060-0856; FR ID 282211]

Information Collection Being Submitted for Review and Approval to Office of Management and Budget

AGENCY: Federal Communications Commission.

ACTION: Notice and request for comments.

SUMMARY: As part of its continuing effort to reduce paperwork burdens, as required by the Paperwork Reduction Act (PRA) of 1995, the Federal Communications Commission (FCC or the Commission) invites the general public and other Federal Agencies to take this opportunity to comment on the following information collection. Pursuant to the Small Business Paperwork Relief Act of 2002, the FCC seeks specific comment on how it might “further reduce the information collection burden for small business concerns with fewer than 25 employees.” The Commission may not conduct or sponsor a collection of information unless it displays a currently valid Office of Management and Budget (OMB) control number. No person shall be subject to any penalty for failing to comply with a collection of information subject to the PRA that does not display a valid OMB control number.

DATES: Written comments and recommendations for the proposed information collection should be submitted on or before April 4, 2025.

ADDRESSES: Comments should be sent to www.reginfo.gov/public/do/PRAMain. Find this particular information collection by selecting “Currently under 30-day Review—Open for Public Comments” or by using the search function. Your comment must be submitted into www.reginfo.gov per the above instructions for it to be considered. In addition to submitting in www.reginfo.gov also send a copy of your comment on the proposed information collection to Nicole Ongele, FCC, via email to PRA@fcc.gov and to Nicole.Ongele@fcc.gov. Include in the comments the OMB control number as shown in the SUPPLEMENTARY INFORMATION below.

FOR FURTHER INFORMATION CONTACT: For additional information or copies of the information collection, contact Nicole Ongele at (202) 418-2991. To view a copy of this information collection request (ICR) submitted to OMB: (1) go to the web page http://www.reginfo.gov/public/do/PRAMain, (2) look for the section of the web page called “Currently Under Review,” (3) click on the downward-pointing arrow in the “Select Agency” box below the “Currently Under Review” heading, (4) select “Federal Communications Commission” from the list of agencies presented in the “Select Agency” box, (5) click the “Submit” button to the right of the “Select Agency” box, (6) when the list of FCC ICRs currently under review appears, look for the Title of this ICR and then click on the ICR Reference Number. A copy of the FCC submission to OMB will be displayed.

SUPPLEMENTARY INFORMATION: As part of its continuing effort to reduce paperwork burdens, as required by the Paperwork Reduction Act (PRA) of 1995 (44 U.S.C. 3501-3520), the FCC invited the general public and other Federal Agencies to take this opportunity to comment on the following information collection. Comments are requested concerning: (a) Whether the proposed collection of information is necessary for the proper performance of the functions of the Commission, including whether the information shall have practical utility; (b) the accuracy of the Commission's burden estimates; (c) ways to enhance the quality, utility, and clarity of the information collected; and (d) ways to minimize the burden of the collection of information on the respondents, including the use of automated collection techniques or other forms of information technology. Pursuant to the Small Business Paperwork Relief Act of 2002, Public Law 107-198, see 44 U.S.C. 3506(c)(4), the FCC seeks specific comment on how it might “further reduce the information collection burden for small business concerns with fewer than 25 employees.”

OMB Control Number: 3060-0856.

Title: Universal Service—Schools and Libraries Universal Service Support Program Reimbursement Forms.

Form Numbers: FCC Forms 472, 473, and 474.

Type of Review: Revision of a currently approved collection.

Respondents: Businesses or other for-profit institutions, Not-for-profit institutions, and State, Local or Tribal government.

Number of Respondents and Responses: 27,953 respondents; 133,214 responses.

Estimated Time per Response: Form 472—1.5 hours; Form 473—2 hours; Form 474—1.5 hours, and 0.5 hours for recordkeeping requirements.

Frequency of Response: On occasion and annual reporting requirements, recordkeeping and third-party disclosure requirements.

Obligation to Respond: Required to obtain or retain benefits. The Commission's statutory authority to collect this information is contained in sections 1, 4(i), 4(j), 201-205, 214, 254, 312(d), 312(f), 403 and 503(b) of the Communications Act of 1934, as amended. 5 U.S.C. 553(b)(3), 601-612; 15 U.S.C. 1, 632; 44 U.S.C. 3506(c)(4); 47 U.S.C. 1, 4(i), 4(j), 201-205, 214, 254, 312(d), 312(f), 403, 503(b).

Total Annual Burden: 195,615 hours.

Total Annual Cost: No cost.

Needs and Uses: The Commission will submit this information collection to the Office of Management and Budget (OMB), which is a revision of a currently approved collection, to obtain a full three-year clearance from OMB. The requirements contained herein are necessary to implement the Congressional mandate for universal service. It provides the Commission and USAC with the necessary information to administer the E-Rate program, determine the amount of support entities seeking funding are eligible to receive, to determine if entities are complying with the Commission's rules, and to prevent waste, fraud, and abuse. The information will also allow the Commission to evaluate the extent to which the E-Rate program is meeting the statutory objectives specified in section 254 of the 1996 Act, the Commission's performance goals established in the 2014 First and Second E-Rate Orders, and to evaluate the need and feasibility for any future revisions to program rules.

FCC Forms 472, 473, and 474 were revised. On July 29, 2024 the Commission released a Report and Order and Further Notice of Proposed Rulemaking (WC Docket No. 21-31, FCC 24-76) (Report and Order); finding that the off-premises use of wireless internet services and the Wi-Fi hotspot devices needed to deliver the services; serves an educational purpose and are eligible for E-Rate support. The Report and Order, 89 FR 67303, August 20, 2024, adds certifications to the FCC Form 473 for participating service providers on the hotspots non-usage notice and termination requirement, prohibition against charging the balance for terminated services, and certifying that the cost of Wi-Fi hotspots do not exceed commercial value. The Report and Order also adds a certification to FCC Forms 472 and 474 to certify that there is no duplicative funding and funding is not being requested for eligible equipment and services that have been funded by other sources. The hourly burden will increase by 50,865 hours for FCC Forms 472, 473, and 474. The public burden for the collection contained herein will increase to 195,615 burden hours.

FCC Form 472 “Billed Entity Applicant Reimbursement Form.” Billed entities may pay the full amount for eligible services directly to the service providers and then, once services have been received, seek reimbursement from USAC to cover the amounts of the discounts for which they have qualified. The FCC Form 472 is used by the billed entity to request such reimbursement from USAC. USAC disburses payments directly to the billed entity to cover services that have been properly invoiced. The information on FCC Form 472 enables this direct reimbursement process. This information includes the amount paid for approved services delivered on or after the actual services start date, as reported on the FCC Form 486 (approved under OMB Control No. 3060-0853).

FCC Form 473 “Service Provider Annual Certification Form.” The FCC Form 473 must be filed by service providers to attest that the invoices submitted under the E-Rate program comply with the FCC's rules. The service provider must annually submit an FCC Form 473 for each service provider identification number (SPIN).

FCC Form 474 “Service Provider Invoice (SPI) FCC Form 474.” As an alternative to paying in full for eligible services, the billed entity can pay only the amounts for eligible services that have been discounted already by the service provider. Under this alternative, once services have been received, service providers seek payment from USAC to cover the amounts of the discounts for which the billed entity qualifies. Service providers use the FCC Form 474 to request direct payment for invoices submitted for services that comply with the rules of the E-Rate program. The information on the FCC Form 474 must be received by USAC before a participating service provider can receive payment for the discounted portion of its bill for eligible services to eligible entities. Subsequent to receipt and review of the FCC Form 474, USAC will authorize payment based on the invoices.

All of the requirements contained in this information collection are necessary to implement the Congressional mandate for the E-Rate program and reimbursement process.

Federal Communications Commission.
Marlene Dortch,
Secretary, Office of the Secretary.

[FR Doc. 2025-03523 Filed 3-4-25; 8:45 am]

BILLING CODE 6712-01-P